DEPARTMENT OF ENERGY

Federal Energy Regulatory Commission

[Docket No. PR03-17-000]

Unocal Keystone Gas Storage, LLC.; Notice of Petition for Rate Approval

September 17, 2003.

Take notice that on September 9, 2003 Unocal Keystone Gas Storage, LLC. (Keystone) filed pursuant to Section 284.123 of the Commission's regulations, a petition for rate approval requesting that the Commission approve the proposed market-based rates for storage and park and loan services.

Keystone requests that the Commission reaffirm its prior authorization for it to continue to charge market-based rates for storage and park and loan services following the planned expansion. Keystone also requests to extend that authorization to interruptible wheeling service. Keystone states that it desires to begin to offer an interruptible wheeling service.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “eLibrary” link. Enter the docket number excluding the last three digits I the docket number field to access the document. For assistance, please contact FERC Online Support at FERCOnlineSupport@ferc.gov or toll-free at (866) 208-3676, or TTY, (202) 502-8659. Comments, protests and interventions may be filed electronically via the Internet in lieu of paper. The Commission strongly encourages electronic filings. See 18 CFR 385.2001(1)(iii) and the instructions on the Commission's Web site under the “e-Filing” link.

Comment Date: October 2, 2003.

Magalie R. Salas,
Secretary.

[FR Doc. 03-24240 Filed 9-24-03; 8:45 am]

BILLING CODE 6717-01-P